FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011809.

Title: Tropical/Tecmarine Agreement.

Parties: Tropical Shipping & Construction Company, Ltd. Tecmarine Lines, Inc.

Synopsis: Under the proposed agreement, Tecmarine will refrain from competing with Tropical in the trade between the Untied States and the Guianas and the Eastern Caribbean. This agreement is in consideration of Tropical's purchase of certain Tecmarine assets and stock companies operating in the foregoing trading areas.

Agreement No.: 200063-023.

Title: NYSA-ILA Tonnage Assessment Agreement Assignment Agreement.

Parties: New York Shipping Association, Inc. International Longshoremen's Association, AFL-CIO.

Synopsis: The amendment reduces certain assessment rates and classifies uncontainerized bagged cocoa as an excepted cargo.

Agreement No.: 201113-001.

Title: Oakland/SSA Terminals, LLC Preferential Assignment Agreement.

Parties: Port of Oakland, SSA Terminals, LLC.

Synopsis: The amendment revises the delivery of certain portions of the leasehold, clarifies the improvements the port will install on the premises, and clarifies the repair and maintenance obligations of the parties. The amendment also amends the minimum annual guarantees and break point levels as well as revises the terms for the termination of other agreements.

By Order of the Federal Maritime Commission.
Dated: June 28, 2002.
Bryant L. VanBrakle,
Secretary.

[FR Doc. 02-16757 Filed 7-3-02; 8:45 am]

BILLING CODE 6730-01-P